GENERAL SERVICES ADMINISTRATION

[Notice-MA-2019-03; Docket No. 2019-0002, Sequence No. 4]

FMR Bulletin B-48, Exchange/Sale Financial Accounting

AGENCY: Office of Government-wide Policy (OGP), General Services Administration (GSA).

ACTION: Notice of Federal Management Regulation (FMR) Bulletin B-48, EXCHANGE/SALE FINANCIAL ACCOUNTING.

SUMMARY: FMR Bulletin B-48 provides guidance to agencies on the use of the exchange/sale authority as authorized by Title 40 United States Code (U.S.C.) Section 503 and governed by regulations at FMR 102-39, Replacement of Personal Property Pursuant to the Exchange/Sale Authority (41 Code of Federal Regulations 102-39).

Agencies are encouraged to consider the use of this guidance when acquiring replacement assets via the exchange/sale authority. This Bulletin B-48 provides guidance on the use of this cost-saving strategy, as well as providing guidance for financial accounting of exchange/sale transactions. The Bulletin and additional guidance on the exchange/sale authority may be found at www.gsa.gov/exchangesale.

DATES: Applicability date: This notice is applicable beginning June 20, 2019 until otherwise revoked.

FOR FURTHER INFORMATION CONTACT: For clarification of content, please contact Mr. Bob Holcombe, Office of Government-wide Policy, Office of Asset and Transportation Management, at 202-501-3828, or by email at Robert.Holcombe@gsa.gov. Please cite Notice of FMR Bulletin B-48.

Jessica Salmoiraghi,
Associate Administrator, Office of Government-wide Policy.

[FR Doc. 2019-13012 Filed 6-19-19; 8:45 am]

BILLING CODE 6820-14-P